DEPARTMENT OF ENERGY

Agency Information Collection Renewal

AGENCY: Department of Energy.

ACTION: Notice and request for comments.

SUMMARY: The Department of Energy (DOE), pursuant to the Paperwork Reduction Act of 1995, intends to renew, for three years, an information collection request with the Office of Management and Budget (OMB).

DATES: Comments regarding this proposed information collection must be received on or before May 5, 2023. If you anticipate difficulty in submitting comments within that period or if you want access to the collection of information, without charge, contact the person listed below as soon as possible.

ADDRESSES: Written comments should be sent to the following: Richard Bonnell, U.S. Department of Energy, Office of Acquisition Management, 1000 Independence Avenue SW, Washington, DC 20585-0121 or by email at richard.bonnell@hq.doe.gov. Please put “2023 DOE Agency Information Collection Renewal-Financial Assistance” in the subject line when sending an email.

FOR FURTHER INFORMATION CONTACT: Richard Bonnell by phone at (202) 287-1741 or by email at richard.bonnell@hq.doe.gov. Please put “2023 DOE Agency Information Collection Renewal-Financial Assistance” in the subject line when sending an email.

SUPPLEMENTARY INFORMATION: Comments are invited on: (a) whether the renewed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-0400 (Renewal); (2) Information Collection Request Title: DOE Financial Assistance Information Clearance; (3) Type of Review: Renewal; (4) Purpose: This information collection package covers mandatory collections of information necessary to annually plan, solicit, negotiate, award and administer grants and cooperative agreements under the Department's financial assistance programs. The information is used by Departmental management to exercise management oversight with respect to implementation of applicable statutory and regulatory requirements and obligations. The collection of this information is critical to ensure that the Government has sufficient information to judge the degree to which awardees meet the terms of their agreements; that public funds are spent in the manner intended; and that fraud, waste, and abuse are immediately detected and eliminated; (5) Annual Estimated Number of Respondents: 22,900; (6) Annual Estimated Number of Total Responses: 265,550; (7) Estimated Number of Burden Hours: 1,464,800; and (8) Annual Estimated Reporting and Recordkeeping Cost Burden: $0.

Statutory Authorities: Federal Grant and Cooperative Agreement Act, 31 U.S.C. 6301-6308.

Signing Authority

This document of the Department of Energy was signed on February 24, 2023, by John R. Bashista, Director, Office of Acquisition Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2023.
Treena V. Garrett,
Federal Register Liaison Officer, U.S. Department of Energy.

[FR Doc. 2023-04519 Filed 3-3-23; 8:45 am]

BILLING CODE 6450-01-P